DEPARTMENT OF AGRICULTURE

Food Safety and Inspection Service

[Docket No. FSIS-2006-0010]

Codex Alimentarius Commission: Meeting of the Codex Committee on Methods of Analysis and Sampling

AGENCY: Office of the Under Secretary for Food Safety, USDA.

ACTION: Notice of public meeting and request for comments.

SUMMARY: The Office of the Under Secretary for Food Safety, United States Department of Agriculture (USDA), and the Food and Drug Administration (FDA), U.S. Department of Health and Human Services (HHS), are sponsoring a public meeting on May 9, 2006. The objective of the public meeting is to provide information and receive public comments on agenda items and draft United States positions that will be discussed at the Twenty-seventh Session of the Codex Committee on Methods of Analysis and Sampling (CCMAS) of the Codex Alimentarius Commission (Codex), which will be held in Budapest, Hungary, May 15-19, 2006. The Under Secretary and FDA recognize the importance of providing interested parties the opportunity to obtain background information on the 27th Session of CCMAS and to address issues on the agenda.

DATES: The public meeting is scheduled for Tuesday, May 9, 2006 from 10:30 a.m. to 12 p.m.

ADDRESSES: The public meeting will be held in the Conference Room 1A 002, Harvey W. Wiley Federal Building, 5100 Paint Branch Parkway, College Park, MD. Documents related to the 27th Session of CCMAS will be accessible via the World Wide Web at the following address: http://www.codexalimentarius.net/current.asp.

The Food Safety and Inspection Service (FSIS) invites interested persons to submit comments on this notice. Comments may be submitted by any of the following methods:

Federal eRulemaking Portal: This Web site provides the ability to type short comments directly into the comment field on this Web page or attach a file for lengthier comments. Go to http://www.regulations.gov and, in the “Search for Open Regulations” box, select “Food Safety and Inspection Service” from the agency drop-down menu, then click on “Submit.” In the Docket ID column, select the FDMS Docket Number FSIS-2006-0010 to submit or view public comments and to view supporting and related materials available electronically.

Mail, including floppy disks or CD-ROM's, and hand-or courier-delivered items: Send to FSIS Docket Room, Docket Clerk, USDA, Food Safety and Inspection Service (FSIS), 300 12th Street, SW., Room 102, Cotton Annex Building, Washington, DC 20250.

Electronic mail: fsis.regulationscomments@fsis.usda.gov.

All submissions received must include the Agency name and docket number FSIS-2006-0010.

All comments submitted in response to this notice, as well as research and background information used by FSIS in developing this document, will be posted to the regulations.gov Web site. The background information and comments also will be available for public inspection in the FSIS Docket Room at the address listed above between 8:30 a.m. and 4:30 p.m., Monday through Friday.

In addition to submitting comments by mail to the above address, the U.S. Delegate to the CCMAS, Dr. Gregory Diachenko of the Food and Drug Administration, invites U.S. interested parties to submit their comments electronically to the following e-mail address (gregory.diachenko@fda.hhs.gov).

Pre-Registration: To gain admittance to this meeting, individuals must present a photo ID for identification and also are required to pre-register. In addition, no cameras or videotaping equipment will be permitted in the meeting room. To pre-register, please send the following information to this e-mail address (gregory.diachenko@fda.hhs.gov) by May 4, 2006:

—Your Name

—Organization

—Mailing Address

—Phone number

—E-mail address

For Further Information About the 27th Session of the CCMAS Contact: U.S. Delegate, Dr. Gregory Diachenko, Director, Division of Chemistry Research and Environmental Review, Center for Food Safety and Applied Nutrition, FDA, Harvey Wiley Federal Building, 5100 Paint Branch Parkway, College Park, Maryland 20740. Phone (301) 436-1898; Fax (301) 436-2634, E-mail: gregory.diachenko@fda.hhs.gov.

For Further Information About the Public Meeting Contact: Syed Amjad Ali, International Issues Analyst, U.S. Codex Office, FSIS, Room 4861, South Agriculture Building, 1400 Independence Avenue, SW., Washington, DC 20250-3700. Phone (202) 205-7760; Fax (202) 720-3157.

SUPPLEMENTARY INFORMATION:

Background

The Codex Alimentarius Commission (Codex) was established in 1963 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The Codex Committee on Methods of Analysis and Sampling was established to perform multiple functions; defines criteria appropriate for Codex Methods of Analysis and Sampling; specifies reference methods of analysis and sampling; endorses methods of analysis and sampling proposed by Codex Committees; elaborates sampling plans; and considers specific sampling and analysis problems. The Committee is chaired by Hungary.

Issues To Be Discussed at the Public Meeting

The following items on the agenda for the 27th Session of CCMAS will be discussed during the public meeting:

• Matters referred by the Codex Alimentarius Commission and other Codex Committees

• Proposed Draft Guidelines for Evaluating Acceptable Methods of Analysis

• Proposed Draft Guidelines for Settling Disputes on Analytical (Test) Results

• Recommendation for a Checklist of Information

• Further Review of Analytical Terminology for Codex Use (For inclusion in the Procedural Manual)

• Criteria for Methods of Detection and Identification of Foods Derived from Biotechnology

• Conversion of the Methods for Trace Elements into Criteria

• Methods of analysis for dioxins and PCBs

Each issue listed will be fully described in documents distributed, or to be distributed, by the Hungarian Secretariat prior to the meeting. Members of the public may access copies of these documents via the World Wide Web at the following address: http://www.codexalimentarius.net/current.asp.

Public Meeting

At the May 9, 2006 public meeting, these agenda items will be described, discussed, and attendees will have the opportunity to pose questions and offer comments. Written comments may be offered at the meeting or sent to the U.S. Delegate for the 27th Session of the CCMAS, Dr. Gregory Diachenko (See For Further Information About the 27TH Session of the CCMAS Contact). Written comments should state that they relate to activities of the 27th Session of the CCMAS.

Additional Public Notification

Public awareness of all segments of rulemaking and policy development is important. Consequently, in an effort to ensure that minorities, women, and persons with disabilities are aware of this notice, FSIS will announce it on-line through the FSIS Web Page located at http://www.fsis.usda.gov/regulations/2006_Notices_Index/. FSIS also will make copies of this Federal Register publication available through the FSIS Constituent Update, which is used to provide information regarding FSIS policies, procedures, regulations, Federal Register notices, FSIS public meetings, recalls and other types of information that could affect or would be of interest to constituents and stakeholders. The update is communicated via Listserv, a free electronic mail subscription service for industry, trade and farm groups, consumer interest groups, allied health professionals and other individuals who have asked to be included. The update is available on the FSIS Web page. Through the Listserv and web page, FSIS is able to provide information to a much broader and more diverse audience. In addition, FSIS offers an electronic mail subscription service that provides an automatic and customized notification when popular pages are updated, including Federal Register publications and related documents. This service is available at http://www.fsis.usda.gov/news_and_events/email_subscription/ and allows FSIS-FAIM customers to sign up for subscription options in eight categories. Options range from recalls to export information to regulations, directives and notices. Customers can add or delete subscriptions themselves and have the option to protect their accounts with passwords.

Done at Washington, DC on: April 14, 2006.
F. Edward Scarbrough,
U.S. Manager for Codex Alimentarius.

[FR Doc. E6-5861 Filed 4-18-06; 8:45 am]

BILLING CODE 3410-DM-P